DEPARTMENT OF COMMERCE

National Oceanic and Atmospheric Administration

RIN 0648-XA567

Taking and Importing Marine Mammals; Military Training Activities and Research Conducted Within the Mariana Islands Range Complex

AGENCY: National Marine Fisheries Service (NMFS), National Oceanic and Atmospheric Administration (NOAA), Commerce.

ACTION: Notice of issuance of a Letter of Authorization.

SUMMARY: In accordance with the Marine Mammal Protection Act (MMPA), as amended, and implementing regulations, notice is hereby given that NMFS has issued a letter of authorization (LOA) to the U.S. Navy (Navy) to take marine mammals incidental to Navy training, maintenance, and research, development, testing, and evaluation (RDT&E) activities to be conducted within the Mariana Islands Range Complex (MIRC) Study Area for the period of August 12, 2011, through August 11, 2012.

DATES: This authorization is effective from August 12, 2011, through August 11, 2012.

ADDRESSES: The LOA and supporting documentation may be obtained by writing to P. Michael Payne, Office of Protected Resources, NMFS, 1315 East-West Highway, Silver Spring, MD 20910, or by telephoning one of the contacts listed here.

FOR FURTHER INFORMATION CONTACT: Jolie Harrison or Brian D. Hopper, Office of Protected Resources, NMFS, (301) 427-8401.

SUPPLEMENTARY INFORMATION: Section 101(a)(5)(A) of the MMPA (16 U.S.C. 1361 et seq.) directs NMFS to allow, upon request, the incidental taking of marine mammals by U.S. citizens who engage in a specified activity (other than commercial fishing), if certain findings are made by NMFS and regulations are issued. Under the MMPA, the term “take” means to harass, hunt, capture, or kill or to attempt to harass, hunt, capture, or kill marine mammals.

Regulations governing the taking of marine mammals by the Navy incidental to MIRC training, maintenance, and RDT&E became effective on August 3, 2010 (75 FR 45527, August 3, 2010), and remain in effect through August 3, 2015. The MIRC study area encompasses a 501,873 square nautical mile area (nm²) around the islands, including Guam, Tinian, Saipan, Rota, Farallon de Meinilla, and also includes ocean areas in both the Pacific Ocean and Philippine Sea. For detailed information on this action, please refer to the August 2010 final rule. These regulations include mitigation, monitoring, and reporting requirements and establish a framework to authorize incidental take through the issuance of LOAs.

Summary of Request

On April 18, 2011, NMFS received a request from the Navy for a renewal of an LOA issued on August 12, 2010, for the taking of marine mammals incidental to training and research activities conducted within the MIRC Study Area under regulations issued on August 3, 2010 (75 FR 45527). The Navy has complied with the measures required in 50 CFR 218.104 and 218.105, as well as the associated 2010 LOA, and submitted the reports and other documentation required in the final rule and the 2010 LOA.

Summary of Activity Under the 2010 LOA

As described in the Navy's exercise reports (both classified and unclassified), in 2010, the training activities conducted by the Navy were within the scope and amounts authorized by the 2010 LOA and the levels of take remain within the scope and amounts contemplated by the final rule. Between August 12, 2010 and February 15, 2011, the Navy conducted one Multi Strike Group Exercise. The exercise was conducted from September 16-21, 2010 and included one Sinking Exercise (SINKEX), one underwater demolition exercise, and one Air-to-Surface Missile Exercise (A-S MISSILEX).

Planned Activities and Estimated Take for 2011-2012

In 2011-2012, the Navy expects to conduct the same type and amount of training contemplated in the final rule and identified in the 2010 LOA. Therefore, for the 2011 LOA, NMFS authorizes the same amount of take that was authorized in 2010.

Summary of Monitoring, Reporting, and Other Requirements Under the 2010 LOA

Annual Exercise Reports

The Navy submitted their classified and unclassified 2010 exercise reports within the required timeframes and the unclassified report is posted on NMFS' Web site: http://www.nmfs.noaa.gov/pr/permits/incidental.htm. NMFS has reviewed both reports and they contain the information required by the 2010 LOA. The reports indicate the amounts of different types of training that occurred from August 12, 2010, through February 15, 2011. As mentioned above, the Navy conducted one Multi Strike Group Exercise consisting of various training exercises addressed in the rule (the rule analyzed the likely annual impacts of up to two SINKEXs, 50 underwater demolitions, and two A-S MISSILEXs).

The reports also list specific information gathered when marine mammals were detected by Navy watchstanders, such as how far an animal was from the vessel, whether sonar was in use, and whether it was powered or shut down. This information indicates that the Navy implemented the safety zone mitigation measures as required. During the Multi-Strike Group Exercise conducted in September, 2010, no instances of obvious behavioral disturbance were reported by the Navy watchstanders in their 10 marine mammal sightings totaling 39 animals. Furthermore, safety zones were adhered to, and vessels and aircraft applied mitigation measures when marine mammals were observed within the requisite zones. There were two marine mammal sightings within 200 yards of a Mid-Frequency Active Sonar (MFAS) source during this exercise. In both instances, the proper mitigation was conducted and the source was shut down; no unusual behavior was observed.

2010 Monitoring

The Monitoring Plan for MIRC committed the Navy to conduct monitoring in 2010 and 2011 in anticipation of the MMPA regulations and LOAs being issued in March 2010. Due to unforeseen delays, the final rule and LOA were not issued until August 2010; however, the Navy had already prepared a draft Monitoring Plan for MIRC, and the visual surveys conducted January through April 2010 in collaboration with the NMFS Pacific Islands Fisheries Science Center (PIFSC) were consistent with its objectives. No additional visual surveys occurred between August 12, 2010 and February 12, 2011, but a winter survey was conducted from February 17 to March 3, 2011. In addition, a summer survey and the deployment of passive acoustic monitoring devices is scheduled for September 2011 and the Mariana Islands Sea Turtle and Cetacean Survey (MISTCS) acoustic data analysis is currently underway. The Navy's monitoring accomplishments are discussed in their 2010 Monitoring Report, which is posted on NMFS' Web site (http://www.nmfs.noaa.gov/pr/permits/incidental.htm). The Navy submitted the 2010 Monitoring Report within the required timeframe. The report includes a summary of their 2010 monitoring effort and results (beginning on page 4 of the monitoring report) and the specific reports for each individual effort are presented in the appendix.

Visual Surveys

From January 20 to February 6, 2010, visual observations for cetaceans occurred during an 18-day transit from Hawaii to Guam aboard the NOAA R/V OSCAR ELTON SETTE. These monitoring efforts and their findings, if available, will be discussed in greater detail below.

The R/V SETTE surveyed 1,285 nm of trackline over 16 days. The visual observer teams encountered 25 cetacean groups and obtained group size estimates for all groups. Two of the sightings were made by an independent observer. Eight of the 25 cetacean groups were identified to species. Time and weather limitations prevented the ship's approach of more of the sighted cetacean groups.

The R/V SETTE also conducted visual observations for cetaceans during the 17-day transit from Guam to Hawaii from April 19 to May 3, 2010. The visual observer teams encountered 21 cetacean groups and obtained group size estimates for all groups. One sighting was made by an independent observer. Sixteen of the 21 cetacean groups were identified to species. Time and weather limitations prevented the ship's approach of more of the sighted cetacean groups; however, on one occasion the small boat was launched for biopsy sampling and photography of a group of pilot whales.

From March 20 to April 11, 2010, visual observations for cetaceans occurred during transit periods of a 23-day oceanography survey around Guam and the southern portion of the Northern Mariana Islands. The observer team encountered nine cetacean groups and was able to identify three to species. Neither photos nor biopsy samples were collected during this cruise because cetacean observations were ancillary to the primary objective and time constraints did not allow the ship to stop for photographing groups or collecting samples.

Small vessel surveys for marine mammals were conducted from January to April 2010 by NMFS' PIFSC around the islands of Guam, Saipan and Tinian. During the surveys conducted around Guam from February 9-18, 2010, the observer team encountered 11 groups of cetaceans and identified 10 of the groups to species. A total of 2,769 digital images were taken for species identification and individual recognition. Surveys conducted around Saipan and Tinian from February 22-March 3, 2010, encountered seven cetacean groups and all were identified to species. A total of 971 digital images were taken for the purposes of species identification and individual recognition.

Photo Data Collection and Biopsy Sampling

In conjunction with the vessel surveys from Hawaii to Guam, the SETTE's small boat was launched on two occasions for photography of sighted animals and biopsy sampling. A single biopsy sample was collected from a sei whale in the waters off of Wake Island. The sample was collected from the Safeboat using a dart fired from a crossbow. Upon collection, tissue samples are sectioned in half, with one half archived at PIFSC and the other sent to the genetics lab at the Southwest Fisheries Science Center for studies on the genetic population structure of cetaceans in the Pacific. During the transit from Guam to Hawaii, the SETTE's small boat was launched on one occasion for biopsy sampling and photography of a group of pilot whales. A total of 1,243 photos were collected. Most photos were taken from the flying bridge or bow of the SETTE. Over 200 photos were taken from the small boat during the pilot whale encounter. Most of these photos will be used for individual identification. Two biopsy sampling attempts were made, but no samples were collected.

During the small vessel surveys in the waters surrounding Guam, Saipan and Tinian, a total of 2,769 photos were taken and eight biopsy samples were collected. Photos will be used to study social behavior and movement patterns of identified individuals and to study external features such as morphology or coloration patterns, which may vary geographically. The genetic data from the biopsy samples will be used to study the population structure of the sampled cetacean group.

Passive Acoustic Monitoring

In addition to the visual observations conducted during the high seas surveys between Hawaii and Guam, a hydrophone array was towed behind the SETTE and sonobuoys were deployed to acoustically monitor for the presence of vocalizing cetaceans. The towed array was deployed throughout the cruise—collecting nearly continuous high-frequency clean acoustic data from the four hydrophones. Over 100 acoustic detections were collected, consisting primarily of sperm and minke whale vocalizations. In addition, 37 sonobuoys were deployed over 15 days. Cetacean vocalizations detected by the sonobuoys included humpback, sperm, minke, fin, and sei whale, as well as possible delphinid clicks and whistles. The SETTE also towed the hydrophone array and deployed sonobuoys during the 15-day transit from Guam to Hawaii. Over 150 hours of acoustic data were recorded by the four hydrophones. Sixty-seven vocalizations were detected, consisting primarily of sperm and minke whale; however, other acoustic detections included pilot whales, melon-headed whales, and false killer whales. In addition, six acoustic detections matched the visual sightings of the observation team. Similar to the first leg of the cruise, 37 sonobuoys were deployed over the course of 15 days. Cetacean vocalizations detected by the sonobuoys included delphinid whistles and sperm, minke, and fin whales.

The Navy purchased four passive acoustic monitoring devices that will be deployed around the Mariana Islands during the summer 2011 visual survey. These devices are capable of gathering data throughout the year. In addition, if funds permit, data from passive acoustic monitoring devices currently deployed off Saipan by other researchers will be analyzed cooperatively among the various agencies. Finally, data analysis is currently underway involving the four months of acoustic data gathered using towed arrays and sonobuoys during the MISTCS in 2007. This dataset represents a large compilation of acoustic detections, many of which also correlate to visual detections. Results from this analysis will be provided in the 2012 Annual Monitoring Report.

In conclusion, the Navy's implementation of the monitoring plan accomplished several goals, which contribute to a larger body of data intended to better characterize the abundance, distribution, life history, and behaviors of the species in the MIRC study area. In general, the monitoring conducted in 2010 satisfied the objectives of the monitoring plan and specifically contributed to the following: (1) A greater knowledge and understanding of the density and distribution of species within the MIRC study area; (2) the vocalizations of different species, which advances the development of automated classification software; and (3) establishment of a better baseline of species distribution and abundance that will assist the Navy and NMFS in determining, through adaptive management, whether a shift in monitoring is warranted.

NMFS concludes that the results of these monitoring efforts when taken together with the findings presented in the 2010 exercise report (see Annual Exercise Report section) do not warrant making changes to the current monitoring/mitigation requirements identified in the LOA. While the data collected by the Navy through monitoring and reporting builds upon the existing body of information in a valuable way, none of the new data contradict, or amend, the assumptions that underlie the findings in the 2010 rule in a manner that would suggest changing the current mitigation or monitoring.

Adaptive Management

In general, adaptive management allows NMFS to consider new information from different sources to determine (with input from the Navy regarding practicability) if monitoring efforts should be modified if new information suggests that such modifications are appropriate. All of the 5-year rules and LOAs issued to the Navy include an adaptive management component, which includes an annual meeting between NMFS and the Navy. NMFS and the Navy conducted an adaptive management meeting in October, 2010, which representatives from the Marine Mammal Commission participated in, wherein we reviewed the Navy monitoring results through August 1, 2010, discussed other Navy research and development efforts, and discussed other new information that could potentially inform decisions regarding Navy mitigation and monitoring. None of the information contained in the monitoring report or discussed at the annual adaptive management meeting led NMFS to recommend any modifications to the existing mitigation or monitoring measures.

Integrated Comprehensive Monitoring Report

The 2010 LOA required that the Navy update the ICMP Plan to reflect development in three areas, specifically: (1) Identifying more specific monitoring sub-goals under the major goals that have been identified; (2) characterizing Navy Range Complexes and study areas within the context of the prioritization guidelines described in the ICMP Plan; and (3) continuing to develop data management, organization and access procedures. The Navy has updated the ICMP Plan as required. Because the ICMP is an evolving Program, we have posted the ICMP on the NMFS Web site: http://www.nmfs.noaa.gov/pr/permits/incidental.htm.

Further, the Navy convened a monitoring meeting in October, 2010 to solicit input from NMFS and marine mammal and acoustic scientists regarding the comprehensive development and improvement of the more specific monitoring that should occur across the Navy's training areas. Subsequent to those discussions, the Navy assembled a scientific advisory group (of Navy and outside scientists) that will work on a proposed Navy training area-wide monitoring plan that better considers the biological, logistical, and resource-specific factors that are applicable in each area (and which are summarized in the updated ICMP) to maximize the effectiveness of Navy monitoring within the context of the information that is most needed. Subsequently, NMFS and MMC representatives will review this proposed Navy-wide monitoring plan, which will likely reflect monitoring differences in some Navy training areas from what has been required in the previous LOAs.

2011 Monitoring Meeting

The regulations that established the framework for authorizing the taking of marine mammals incidental to Navy training activities required the Navy, with guidance and support from NMFS, to convene a Monitoring Workshop in 2011 (50 CFR 218.108(d)(2)). The Marine Mammal Monitoring Workshop, which included scientists, representatives from non-governmental organizations, and Marine Mammal Commission staff, took place in June 2011. Pursuant to the regulations, this workshop presented a consolidated overview of monitoring activities conducted in 2009 and 2010, as well as the outcomes of selected monitoring-related research. In 2010, the Navy convened a Scientific Advisory Group (SAG), comprised of experts in the fields of marine mammals and underwater acoustics, to review the Navy's current monitoring plans and make recommendations. The results of the SAG's review were also presented at the meeting. Participants engaged in open discussion of the lessons learned, and discussed how to improve the Navy's monitoring plan moving forward. If changes to monitoring approaches are identified at the workshop that can be implemented during the annual LOA renewal process and subsequent 5-year regulations, the Navy and NMFS will modify the Navy-wide monitoring plan and propose appropriate changes to the monitoring measures in specific LOAs for the different Range Complexes and training areas. For training areas with substantive monitoring modifications, NMFS will subsequently publish proposed LOAs, with the modifications, in the Federal Register and solicit public input. After addressing public comments and making changes as appropriate, NMFS will issue new training area LOAs that reflect the new Navy-wide monitoring plan.

Authorization

The Navy complied with the requirements of the 2010 LOA. Based on our review of the record, NMFS has determined that the marine mammal take resulting from the 2010 military readiness training and research activities falls within the levels previously anticipated, analyzed, and authorized. Further, the level of taking authorized in 2011 for the Navy's MIRC activities is consistent with our previous findings made for the total taking allowed under the MIRC regulations. Finally, the record supports NMFS' conclusion that the total number of marine mammals taken by the 2011 MIRC activities will have no more than a negligible impact on the affected species or stock of marine mammals and will not have an unmitigable adverse impact on the availability of these species or stocks for taking for subsistence uses.

Accordingly, NMFS has issued a one-year LOA for Navy training exercises conducted in the MIRC Study Area from August 12, 2011, through August 11, 2012.

Dated: August 9, 2011.
James H. Lecky,
Director, Office of Protected Resources, National Marine Fisheries Service.

[FR Doc. 2011-20679 Filed 8-12-11; 8:45 am]

BILLING CODE 3510-22-P